DEPARTMENT OF TRANSPORTATION

Federal Aviation Administration

14 CFR Part 39

[Docket No. FAA-2019-0867; Product Identifier 2019-NM-131-AD]

RIN 2120-AA64

Airworthiness Directives; Airbus SAS Airplanes

AGENCY: Federal Aviation Administration (FAA), DOT.

ACTION: Notice of proposed rulemaking (NPRM).

SUMMARY: The FAA proposes to supersede Airworthiness Directive (AD) 2011-09-06, which applies to all Airbus SAS Model A330-200 Freighter series airplanes; Model A330-200, and -300 series airplanes; and Model A340-200, and -300 series airplanes. AD 2011-09-06 requires repetitive inspections and operational checks of the spring function of the emergency exit door slider mechanism, applying corrosion inhibitor, and corrective actions. Since the FAA issued AD 2011-09-06, the agency has determined that additional airplanes are affected by the unsafe condition, and certain compliance times can be extended. This proposed AD would retain the actions specified in AD 2011-09-06, with extended repetitive compliance times and additional airplanes in the applicability, as specified in a European Union Aviation Safety Agency (EASA) AD, which will be incorporated by reference. The FAA is proposing this AD to address the unsafe condition on these products.

DATES: The FAA must receive comments on this proposed AD by January 2, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material identified in this proposed AD that will be incorporated by reference (IBR), contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0867.

Examining the AD Docket

You may examine the AD docket on the internet at https://www.regulations.gov by searching for and locating Docket No. FAA-2019-0867; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Vladimir Ulyanov, Aerospace Engineer, International Section, Transport Standards Branch, FAA, 2200 South 216th St., Des Moines, WA 98198; telephone and fax 206-231-3229.

SUPPLEMENTARY INFORMATION:

Comments Invited

The FAA invites you to send any written relevant data, views, or arguments about this proposal. Send your comments to an address listed under the ADDRESSES section. Include “Docket No. FAA-2019-0867; Product Identifier 2019-NM-131-AD” at the beginning of your comments. The FAA specifically invites comments on the overall regulatory, economic, environmental, and energy aspects of this NPRM. The FAA will consider all comments received by the closing date and may amend this NPRM based on those comments.

The FAA will post all comments, without change, to https://www.regulations.gov, including any personal information you provide. The FAA will also post a report summarizing each substantive verbal contact the agency receives about this proposed AD.

Discussion

The FAA issued AD 2011-09-06, Amendment 39-16668 (76 FR 22005, April 20, 2011) (“AD 2011-09-06”), which applies to all Airbus SAS Model A330-200 Freighter series airplanes; Model A330-200, and -300 series airplanes; and Model A340-200, and -300 series airplanes. AD 2011-09-06 requires repetitive inspections and operational checks of the spring function of the emergency exit door slider mechanism, applying corrosion inhibitor, and corrective actions. The FAA issued AD 2011-09-06 to address girt bars that attach the escape slide to the fuselage that are not in a locked position, which could result in slides detaching from the door after inflation, and which could, during an emergency, impair a safe evacuation of the cabin and possibly result in injuries.

Actions Since AD 2011-09-06 Was Issued

Since the FAA issued AD 2011-09-06, the agency has determined that additional airplanes are affected by the unsafe condition, and the repetitive compliance times can be extended.

The EASA, which is the Technical Agent for the Member States of the European Union, has issued EASA AD 2019-0155, dated July 3, 2019 (also referred to as the Mandatory Continuing Airworthiness Information, or “the MCAI”), to correct an unsafe condition for all Airbus SAS Model A330-200 Freighter series airplanes; Model A330-200, -300, and -900 series airplanes; and Model A340-200, -300, -500, and -600 series airplanes. This proposed AD was prompted a determination that additional airplanes are affected by the unsafe condition. In addition, the FAA has determined that the repetitive interval times can be extended. The MCAI supersedes EASA AD 2010-0135, dated July 5, 2010 (which corresponds to FAA AD 2011-09-06).

The FAA is proposing this AD to address a report that an escape slide deployment test found a girt bar that was not in a locked position and was detached from the airplane, which could result in slides detaching from the door after inflation, and which could, during an emergency, prevent a safe evacuation of the cabin and possibly result in injuries. See the MCAI for additional background information.

Explanation of Retained Requirements

Although this proposed AD does not explicitly restate the requirements of AD 2011-09-06, this proposed AD would retain all requirements of AD 2011-09-06, with extended repetitive intervals for the functional check and lubrication of the door girt bar slider of each passenger/crew door and passenger compartment emergency exit. Those requirements are referenced in EASA AD 2019-0155, which, in turn, is referenced in paragraph (g) of this proposed AD.

Explanation of Revised Terminology

Where AD 2011-09-06 identifies the actions as repetitive inspections and operational checks, application of corrosion inhibitor, and repair or replacement if necessary, the MCAI identifies those same actions as repetitive functional checks and lubrication and repair or replacement if necessary. The required actions have not changed, and the service information referenced in the MCAI has not changed from that specified in AD 2011-09-06.

Related IBR Material Under 1 CFR Part 51

EASA AD 2019-0155 describes procedures for repetitive functional checks and lubrication of the door girt bar slider of each passenger/crew door and passenger compartment emergency exit, and corrective actions (repair or replacement). This material is reasonably available because the interested parties have access to it through their normal course of business or by the means identified in the ADDRESSES section.

FAA's Determination and Requirements of This Proposed AD

This product has been approved by the aviation authority of another country, and is approved for operation in the United States. Pursuant to the FAA's agreement with the State of Design Authority, the FAA has been notified of the unsafe condition described in the MCAI referenced above. The FAA is proposing this AD because the FAA evaluated all pertinent information and determined an unsafe condition exists and is likely to exist or develop on other products of the same type design.

Proposed AD Requirements

This proposed AD would require accomplishing the actions specified in EASA AD 2019-0155 described previously, as incorporated by reference, except for any differences identified as exceptions in the regulatory text of this AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2019-0155 will be incorporated by reference in the FAA final rule. This proposed AD would, therefore, require compliance with EASA AD 2019-0155 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2019-0155 that is required for compliance with EASA AD 2019-0155 will be available on the internet at https://www.regulations.gov by searching for and locating Docket No. FAA-2019-0867 after the FAA final rule is published.

Costs of Compliance

The FAA estimates that this proposed AD affects 111 airplanes of U.S. registry.

The FAA estimates the following costs to comply with this proposed AD:

Estimated Costs for Required Actions
Action | Labor cost | Parts cost | Cost per product | Cost on U.S. operators
Retained actions from AD 2011-09-06 | 3 work-hours × $85 per hour = $255 | None | $255 | $28,305
New proposed actions | 2 work-hours × $85 per hour = $170 | None | 170 | 18,870

The FAA estimates the following costs to do any necessary on-condition action that would be required based on the results of any required actions. The FAA has no way of determining the number of aircraft that might need this on-condition action:

Estimated Costs of On-Condition Actions *
Labor cost | Parts cost | Cost per product
1 work-hour × $85 per hour = $85 per girt bar replacement | $2,160 | $2,245
* The FAA has received no definitive data that would enable the agency to provide cost estimates for the on-condition repair specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-09-06, Amendment 39-16668 (76 FR 22005, April 20, 2011), and adding the following new AD:

Airbus SAS: Docket No. FAA-2019-0867; Product Identifier 2019-NM-131-AD.

(a) Comments Due Date

The FAA must receive comments by January 2, 2020.

(b) Affected ADs

This AD replaces AD 2011-09-06, Amendment 39-16668 (76 FR 22005, April 20, 2011) (“AD 2011-09-06”).

(c) Applicability

This AD applies to the Airbus SAS Model airplanes identified in paragraphs (c)(1) through (7) of this AD, certificated in any category, all manufacturer serial numbers.

(1) Model A330-223F, and -243F airplanes.

(2) Model A330-201, -202, -203, -223, and -243 airplanes.

(3) Model A330-301, -302, -303, -321, -322, -323, -341, -342, and -343 airplanes.

(4) Model A330-941 airplanes.

(5) Model A340-211, -212, and -213 airplanes.

(6) Model A340-311, -312, and -313 airplanes.

(7) Model A340-541 and -642 airplanes.

(d) Subject

Air Transport Association (ATA) of America Code 52, Doors.

(e) Reason

This AD was prompted by a report that an escape slide deployment test found a girt bar that was not in a locked position and was detached from the airplane. This AD was also prompted by a determination that additional airplanes not identified in AD 2011-09-06 are affected by the unsafe condition. The FAA is issuing this AD to address this condition, which could result in slides detaching from the door after inflation, and could, during an emergency, prevent a safe evacuation of the cabin and possibly result in injuries.

(f) Compliance

Comply with this AD within the compliance times specified, unless already done.

(g) Requirements

Except as specified in paragraph (h) of this AD: Comply with all required actions and compliance times specified in, and in accordance with, European Union Aviation Safety Agency (EASA) AD 2019-0155, dated July 3, 2019 (“EASA AD 2019-0155”).

(h) Exceptions to EASA AD 2019-0155

(1) Where EASA AD 2019-0155 refers to its effective date, this AD requires using the effective date of this AD.

(2) Where paragraph (1) of EASA AD 2019-0155 refers to February 17, 2001, as an effective date, this AD requires using March 19, 2002 (the effective date of AD 2002-02-07, Amendment 39-12635 (67 FR 6370, February 12, 2002)) for all airplanes identified in paragraph (1) of EASA AD 2019-0155, except for Model A330-223F and -243F airplanes. For Model A330-223F and -243F airplanes, use May 5, 2011 (the effective date of AD 2011-09-06).

(3) The “Remarks” section of EASA AD 2019-0155 does not apply to this AD.

(i) No Reporting Requirement

Although the service information referenced in EASA AD 2019-0155 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0155 that contains RC procedures and tests: Except as required by paragraphs (i) and (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA Airworthiness Directive 2019-0155, dated July 3, 2019, contact the EASA, Konrad-Adenauer-Ufer 3, 50668 Cologne, Germany; telephone +49 221 89990 6017; email ADs@easa.europa.eu; internet www.easa.europa.eu. You may find this EASA AD on the EASA website at https://ad.easa.europa.eu. You may view this material at the FAA, Transport Standards Branch, 2200 South 216th St., Des Moines, WA. For information on the availability of this material at the FAA, call 206-231-3195. This material may be found in the AD docket on the internet at https://www.regulations.gov by searching for and locating Docket No. FAA-2019-0867.

(2) For more information about this AD, contact Vladimir Ulyanov, Aerospace Engineer, International Section, Transport Standards Branch, FAA, 2200 South 216th St., Des Moines, WA 98198; telephone and fax 206-231-3229.

Issued in Des Moines, Washington, on November 6, 2019.
Michael Kaszycki,
Acting Director, System Oversight Division, Aircraft Certification Service.

[FR Doc. 2019-24706 Filed 11-15-19; 8:45 am]

BILLING CODE 4910-13-P